DEPARTMENT OF ENERGY

Federal Energy Regulatory Commission

Combined Notice of Filings No. 2

September 17, 2009.

Take notice that the Commission has received the following Natural Gas Pipeline Rate and Refund Report filings:

Docket Numbers: RP99-518-112.

Applicants: Gas Transmission Northwest Corporation.

Description: Gas Transmission Northwest Corporations submits certain revised sheets to be a part of its FERC Gas tariff, Third Revised Volume 1-a.

Filed Date: 09/09/2009.

Accession Number: 20090910-0455.

Comment Date: 5 p.m. Eastern Time on Monday, September 21, 2009.

Docket Numbers: RP09-448-002.

Applicants: Texas Gas Transmission, LLC.

Description: Texas Gas Transmission, LLC submits First Revised Sheet 2603 et al to FERC Gas Tariff, Third Revised Volume 1.

Filed Date: 09/11/2009.

Accession Number: 20090911-0100.

Comment Date: 5 p.m. Eastern Time on Wednesday, September 23, 2009.

Docket Numbers: RP09-611-001.

Applicants: Carolina Gas Transmission Corporation.

Description: Carolina Gas Transmission Corporation submits Second Revised Sheet 212 to its FERC Gas Tariff, Original Volume 1.

Filed Date: 09/15/2009.

Accession Number: 20090916-0085.

Comment Date: 5 p.m. Eastern Time on Monday, September 28, 2009.

Docket Numbers: RP09-611-002.

Applicants: Carolina Gas Transmission Corporation.

Description: Carolina Gas Transmission Corporation submits Second Revised Sheet 212 to its FERC Gas Tariff, Original Volume 1.

Filed Date: 09/15/2009.

Accession Number: 20090916-0085.

Comment Date: 5 p.m. Eastern Time on Monday, September 28, 2009.

Docket Numbers: RP09-734-002.

Applicants: Southern Star Central Gas Pipeline, Inc.

Description: Southern Star Central Gas Pipeline, Inc submits Fourth Revised Sheet 289 et al to FERC Gas Tariff, First Revised Volume 1.

Filed Date: 09/11/2009.

Accession Number: 20090911-0101.

Comment Date: 5 p.m. Eastern Time on Wednesday, September 23, 2009.

Docket Numbers: RP09-856-001.

Applicants: Horizon Pipeline Company, L.L.C.

Description: Horizon Pipeline Company, LLC submits Substitute First Revised Sheet 300 et al to FERC Gas Tariff, Original Volume 1, to be effective 10/11/09.

Filed Date: 09/11/2009.

Accession Number: 20090911-0099.

Comment Date: 5 p.m. Eastern Time on Wednesday, September 23, 2009.

Docket Numbers: RP08-426-009.

Applicants: El Paso Natural Gas Company.

Description: El Paso Natural Gas Company submits Fifth Revised Sheet No 200A et al to FERC Gas Tariff, Second Revised Volume No 1A.

Filed Date: 09/14/2009.

Accession Number: 20090915-0051.

Comment Date: 5 p.m. Eastern Time on Monday, September 28, 2009.

Docket Numbers: RP09-1027-001.

Applicants: White River Hub, LLC.

Description: White River Hub, LLC submits Substitute First Revised Sheet No 243 to its FERC Gas Tariff, Original Volume No 1.

Filed Date: 09/14/2009.

Accession Number: 20090915-0055.

Comment Date: 5 p.m. Eastern Time on Monday, September 28, 2009.

Docket Numbers: RP09-1028-001.

Applicants: Questar Southern Trails Pipeline Company.

Description: Questar Southern Trails Pipeline Co submits Sub First Revised Sheet No. 130 to FERC Gas Tariff, Second Revised Volume No. 1-A.

Filed Date: 09/14/2009.

Accession Number: 20090915-0054.

Comment Date: 5 p.m. Eastern Time on Monday, September 28, 2009.

Docket Numbers: RP09-1029-001.

Applicants: Questar Overthrust Pipeline Company.

Description: Questar Overthrust Pipeline Co submits Sub First Revised Sheet No. 211 to FERC Gas Tariff, Second Revised Volume No. 1-A.

Filed Date: 09/14/2009.

Accession Number: 20090915-0053.

Comment Date: 5 p.m. Eastern Time on Monday, September 28, 2009.

Docket Numbers: RP09-1030-001.

Applicants: Questar Pipeline Company.

Description: Questar Pipeline Company submits Substitute Fourth Revised Sheet No 202 to its FERC Gas Tariff, First Revised Volume No 1.

Filed Date: 09/14/2009.

Accession Number: 20090915-0052.

Comment Date: 5 p.m. Eastern Time on Monday, September 28, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis,
Deputy Secretary.

[FR Doc. E9-23351 Filed 9-25-09; 8:45 am]

BILLING CODE 6717-01-P